DEPARTMENT OF TRANSPORTATION

Federal Aviation Administration

[Summary Notice No. PE-2004-16]

Petitions for Exemption; Summary of Petitions Received; Dispositions of Petitions Issued

AGENCY: Federal Aviation Administration (FAA), DOT.

ACTION: Notice of dispositions of prior petitions.

SUMMARY: Pursuant to FAA's rulemaking provisions governing the application, processing, and disposition of petitions for exemption part 11 of title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, Sandy Buchanan-Sumter (202) 267-7271, or Denise Emrick (202) 267-5174, Office of Rulemaking (ARM-1), Federal Aviation Administration, 800 Independence Avenue, SW., Washington, DC 20591.

This notice is published pursuant to 14 CFR 11.85 and 11.91.

Issued in Washington, DC, on March 9, 2004.
Donald P. Byrne,
Assistant Chief Counsel for Regulations.

Dispositions of Petitions

Docket No.: FAA-2002-11573.

Petitioner: Avcenter, Inc.

Section of 14 CFR Affected: 14 CFR 135.143(c)(2).

Description of Relief Sought/Disposition: To permit Avcenter Inc., to operate certain aircraft under part 135 without a TSO-C112 (Mode S) transponder installed on those aircraft.

Grant, 3/1/2004, Exemption No. 7204B.

Docket No.: FAA-2000-8471.

Petitioner: Termikas, USA.

Section of 14 CFR Affected: 14 CFR 21.183(c).

Description of Relief Sought/Disposition: To permit Termikas, USA, to obtain a standard airworthiness certificate for each of its LET, a.s., model L-13 Blanik sailplanes without a statement from the country of manufacture certifying the airworthiness of each sailplane.

Denial, 2/20/2004, Exemption No. 8259.

Docket No.: FAA-2002-12485.

Petitioner: Mr. Manuel A. Castasus.

Section of 14 CFR Affected: 14 CFR 121.311(b) and 135.128(a).

Description of Relief Sought/Disposition: To permit Joseph, Mr. Manuel A. Castasus's son, to travel in either an Ortho Kinetics Travel Chair Model 6332 or a MERU Travel Chair, without him occupying an FAA-approved seat or berth with a separate belt properly secured about him during movement on the surface, takeoff, and landing, subject to certain conditions and limitations.

Grant, 3/1/2004, Exemption No. 7831A.

Docket No.: FAA-2002-12534.

Petitioner: University of Illinois, Institute of Aviation.

Section of 14 CFR Affected: 14 CFR 141.55(d)(3) and (e)(4) and 141.63(b)(4).

Description of Relief Sought/Disposition: To permit the University of Illinois, Institute of Aviation to hold examining authority for its FAA-approved training course that does not meet the minimum ground flight training time requirements of part 141, subject to certain conditions and limitations.

Grant, 3/1/2004, Exemption No. 7921A.

Docket No.: FAA-2002-11756.

Petitioner: Continental Airlines, Inc.

Section of 14 CFR Affected: 14 CFR 121.434(c)(1)(ii).

Description of Relief Sought/Disposition: To permit Continental Airlines, Inc., to substitute a qualified and authorized check airman in place of an FAA inspector to observe a qualifying pilot in command who is completing the initial or upgrade training specified in § 121.424 during at least one flight leg that includes a takeoff and a landing, subject to certain conditions and limitations.

Grant, 3/1/2004, Exemption No. 6783C.

Docket No.: FAA-2002-11986.

Petitioner: Experimental Aircraft Association.

Section of 14 CFR Affected: 14 CFR 61.113(a).

Description of Relief Sought/Disposition: To permit volunteer pilots who hold private pilot certificates to conduct Experimental Aircraft Association Young Eagles flights for compensation to include meals for the participants, aircraft operating expenses, aircraft and airport security costs, and logging of flight time as pilot in command, subject to certain conditions and limitations.

Grant, 2/29/2004, Exemption No. 7830A.

Docket No.: FAA-2002-11939.

Petitioner: Civil Air Patrol.

Section of 14 CFR Affected: 14 CFR subpart F of part 91.

Description of Relief Sought/Disposition: To permit the Civil Air Patrol to operate small aircraft under subpart F of part 91 and receive limited reimbursement for certain flights within the scope of and incidental to the Civil Air Patrol's corporate purposes and U.S. Air Force Auxiliary status.

Grant, 2/29/2004, Exemption No. 6485D.

Docket No.: FAA-2002-12123.

Petitioner: Bonanza/Baron Pilot Proficiency Programs, Inc. and the American Bonanza Society/Air Safety Foundation.

Section of 14 CFR Affected: 14 CFR 91.109(a) and (b)(3).

Description of Relief Sought/Disposition: To permit the Bonanza/Baron Pilot Proficiency Programs, Inc. and the American Bonanza Society/Air Safety Foundation to conduct certain flight instruction and simulated instrument flights to meet the recent experience requirements in Beechcraft Bonanza, and Travel Air airplanes equipped with a functioning throwover control wheel in place of functioning dual controls.

Grant, 2/29/2004, Exemption No. 7810A.

Docket No.: FAA-2002-13153.

Petitioner: Ottumwa Flying Service, Inc.

Section of 14 CFR Affected: 14 CFR 135.143(c)(2).

Description of Relief Sought/Disposition: To permit Ottumwa Flying Service, Inc., to operate certain aircraft under part 135 without a TSO-C112 (Mode S) transponder installed on those aircraft.

Grant, 3/1/2004, Exemption No. 7905A.

Docket No.: FAA-2002-12729.

Petitioner: Evergreen Helicopters of Alaska, Inc.

Section of 14 CFR Affected: 14 CFR 135.143(c)(2).

Description of Relief Sought/Disposition: To permit Evergreen Helicopters of Alaska, Inc., to operate certain aircraft under part 135 without a TSO-C112 (Mode S) transponder installed on those aircraft.

Grant, 3/1/2004, Exemption No. 7843A.

Docket No.: FAA-2001-8750.

Petitioner: Community College of the Air Force.

Section of 14 CFR Affected: 14 CFR 147.31(c)(2)(iii).

Description of Relief Sought/Disposition: To permit the Community College of the Air Force to allow U.S. Air Force aviation maintenance technicians who have completed military aviation maintenance training courses to be evaluated using the same criteria that is used for the civilian sector.

Grant, 2/10/2004, Exemption No. 8251.

Docket No.: FAA-2004-17069.

Petitioner: Skyward Air, LLC.

Section of 14 CFR Affected: 14 CFR 135.143(c)(2).

Description of Relief Sought/Disposition: To permit Skyward Air, LLC, to operate certain aircraft under part 135 without a TSO-C112 (Mode S) transponder installed in those aircraft.

Grant, 2/23/2004, Exemption No. 8257.

[FR Doc. 04-5679 Filed 3-11-04; 8:45 am]

BILLING CODE 4910-13-P